DEPARTMENT OF TRANSPORTATION

Federal Aviation Administration

14 CFR Part 71

[Docket No. FAA-2012-0055; Airspace Docket No. 11-ACE-12]

RIN 2120-AA66

Proposed Modification of VOR Federal Airways V-10, V-12, and V-508 in the Vicinity of Olathe, KS

AGENCY: Federal Aviation Administration (FAA), DOT.

ACTION: Notice of proposed rulemaking (NPRM).

SUMMARY: This action proposes to modify three VHF Omnidirectional Range (VOR) Federal airways V-10, V-12, and V-508 in the vicinity of Olathe, KS. The FAA is proposing this action to adjust the airway route structure due to the planned decommissioning of the Johnson County VOR/DME navigation aid located on Johnson County Executive Airport, Olathe, KS.

DATES: Comments must be received on or before April 6, 2012.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-0055 and Airspace Docket No. 11-ACE-12 at the beginning of your comments. You may also submit comments through the Internet at http://www.regulations.gov.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0055 and Airspace Docket No. 11-ACE-12) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2012-0055 and Airspace Docket No. 11-ACE-12.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The Kansas City Air Route Traffic Control Center requested the decommissioning of the Johnson County (OJC) VOR/DME navigation aid located on the Johnson County Executive Airport, Olathe, KS, due to poor performance of the navigation aid. The OJC VOR/DME performs poorly due to suburban encroachment into the facility's critical areas. Approach procedures using the facility as the primary navigational aid have been cancelled while other procedures serving the airport are being amended to discontinue use of the facility. Additionally, building infrastructure housing the VOR/DME equipment is deteriorating rapidly. The building is prone to water leakage jeopardizing the equipment and creating hazardous working conditions for maintenance personnel. As a result, the OJC VOR/DME is no longer cost effective to maintain and operate and is planned to be decommissioned without replacement.

The FAA conducted an aeronautical study of the proposal to decommission the Johnson County VOR/DME in 2009 and issued a determination of non-objection with the special provision that all instrument procedures that utilize the OJC VOR/DME be modified with minimal impact to the aviation community. This proposed action would modify the affected airways to provide continued navigation capability in the Olathe, KS, area.

The Proposal

The FAA is proposing an amendment to Title 14 Code of Federal Regulations (14 CFR) part 71 to modify V-10, V-12, and V-508 in the vicinity of Olathe, KS. These changes are required due to the planned decommissioning of the OJC VOR/DME in July 2012.

The proposed changes to V-10 and V-12 are administrative in nature and intended to keep the route segments in the vicinity of Olathe, KS, between Emporia, KS, and Napoleon, MO, unchanged. To retain the airway structure of these airways, the FAA would establish the WETZL fix at the same location depicting the OJC VOR/DME navigation aid. The modification to V-10 and V-12 would replace the OJC VOR/DME in the current airway descriptions with the WETZL fix (described as the intersection of the navigation aid radials that define WETZL). Specifically, the proposed modification to the V-10 and V-12 descriptions would replace the “Johnson County, KS” reference with “INT Emporia 063°(T)/055°(M) and Napoleon, MO, 242°(T)/235°(M) radials”. The magnetic radial information would be removed in the final rule.

As currently established, V-508 ends at the OJC VOR/DME. The proposed change to V-508 would eliminate the last 21 NM of the airway; terminating the route at the existing RUGBB fix, shared with V-502. Ending the modified V-508 at the RUGBB fix would provide eastbound IFR aircraft with the ability to continue to destinations further east or northeast via transition from V-508 to V-502.

VOR Federal airways are published in paragraph 6010(a) of FAA Order 7400.9V dated August 9, 2011, and effective September 15, 2011, which is incorporated by reference in 14 CFR 71.1. The VOR Federal Airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it proposes to modify VOR Federal Airways in the vicinity of Olathe, KS.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9V, Airspace Designations and Reporting Points, dated August 9, 2011, and effective September 15, 2011, is amended as follows:

Paragraph 6010(a) Domestic VOR federal airways.

* * * * *

V-10 [Amended]

From Pueblo, CO; 18 miles, 48 miles, 60 MSL, Lamar, CO; Garden City, KS; Dodge City, KS; Hutchinson, KS; Emporia, KS; INT Emporia 063°(T)/055°(M) and Napoleon, MO, 242°(T)/235°(M) radials; Napoleon; Kirksville, MO; Burlington, IA; Bradford, IL; to INT Bradford 058° and Joliet, IL, 287° radials. From INT Chicago Heights, IL, 358° and Gipper, MI, 271° radials; Gipper; Litchfield, MI; INT Litchfield 101° and Carleton, MI, 262° radials; Carleton; INT Jefferson, OH, 279° and Youngstown, OH, 320° radials; Youngstown; INT Youngstown 116° and Revloc, PA, 300° radials; Revloc; INT Revloc 107° and Lancaster, PA, 280° radials; to Lancaster. The airspace within Canada is excluded.

* * * * *

V-12 [Amended]

From Gaviota, CA; San Marcus, CA; Palmdale, CA; 38 miles, 6 miles wide, Hector, CA; 12 miles, 38 miles, 85 MSL, 14 miles, 75 MSL, Needles, CA; 45 miles, 34 miles, 95 MSL, Drake, AZ; Winslow, AZ; 30 miles, 85 MSL, Zuni, NM; Albuquerque, NM; Otto, NM; Anton Chico, NM; Tucumcari, NM; Amarillo, TX; Mitbee, OK; Anthony, KS; Wichita, KS; Emporia, KS; INT Emporia 063°(T)/055°(M) and Napoleon, MO, 242°(T)/235°(M) radials; Napoleon; INT Napoleon 095° and Columbia, MO, 292° radials; Columbia; Foristell, MO; Troy, IL; Bible Grove, IL; Shelbyville, IN; Richmond, IN; Dayton, OH; Appleton, OH; Newcomerstown, OH; Allegheny, PA; Johnstown, PA; Harrisburg, PA; INT Harrisburg 092° and Pottstown, PA, 278° radials; to Pottstown.

* * * * *

V-508 [Amended]

From Hill City, KS; Hays, KS; Salina, KS, INT Salina 082° and Manhattan, KS, 207° radials; Manhattan; INT Manhattan 078° and Topeka, KS, 293° radials; Topeka; to INT Topeka 112°(T)/107°(M) and Kansas City, MO, 228°(T)/223°(M) radials.

Issued in Washington, DC, on February 9, 2012.
Gary A. Norek,
Acting Manager, Airspace, Regulations & ATC Procedures Group.

[FR Doc. 2012-3820 Filed 2-17-12; 8:45 am]

BILLING CODE 4910-13-P